DEPARTMENT OF JUSTICE

Notice of Lodging of Proposed Consent Decree Under The Clean Air Act

On September 9, 2021, the Department of Justice lodged a proposed Consent Decree with the United States District Court for the Southern District of Illinois in the lawsuit entitled United States v. Center Ethanol Company, LLC, Case No. 3:21-cv-01115.

The United States filed a Complaint seeking civil penalties and injunctive relief from Defendant Center Ethanol Company, LLC (“Center Ethanol”) for alleged violations of the Clean Air Act, 42 U.S.C. 7401-7671q, at its former ethanol production facility in Sauget, Illinois (the “Facility”). Among other things, the United States alleges that Center Ethanol has violated statutory and regulatory requirements limiting volatile organic compound emissions from the Facility, leak detection and repair (“LDAR”) monitoring requirements, as well as air pollution control efficiency requirements under Center Ethanol's 2006 Construction Permit for the Facility.

When the Complaint was filed, the United States also lodged a proposed Consent Decree that would settle the claims asserted in the Complaint. Because Center Ethanol has shut down the Facility, the proposed Consent Decree contains provisions related to its shutdown and deactivation. If Center Ethanol reactivates the Facility, the Consent Decree would require that Center Ethanol implement appropriate injunctive relief to control air pollutant emissions from the Facility, including an LDAR compliance and mitigation program. The Consent Decree also assess a $20,000 civil penalty based on a determination that Center Ethanol has a limited ability to pay.

The publication of this notice opens a period for public comment on the proposed Consent Decree. Comments should be addressed to the Assistant Attorney General, Environment and Natural Resources Division, and should refer to United States v. Center Ethanol Company, LLC, D.J. Ref. No. 90-5-2-1-12078. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees.

We will provide a paper copy of the proposed Consent Decree upon written request and payment of reproduction costs. Please mail your request and payment to: Consent Decree Library, U.S. DOJ—ENRD, P.O. Box 7611, Washington, DC 20044-7611.

Please enclose a check or money order for $18.75 (25 cents per page reproduction cost) payable to the United States Treasury.

Patricia A. McKenna,
Assistant Section Chief, Environmental Enforcement Section, Environment and Natural Resources Division.

[FR Doc. 2021-19921 Filed 9-14-21; 8:45 am]

BILLING CODE 4410-15-P